DEPARTMENT OF HOMELAND SECURITY

Coast Guard

33 CFR Part 110

[Docket No. USCG-2008-0027]

RIN 1625-AA01

Anchorage Regulations; Port of New York

AGENCY: Coast Guard, DHS.

ACTION: Notice of proposed rulemaking.

SUMMARY: The Coast Guard proposes to revise the boundaries of three anchorage grounds in Upper New York Bay adjacent to Ellis and Liberty Islands. This proposed action is necessary due to the proposed increase in size of the Safety and Security Zones surrounding Ellis and Liberty Islands.

DATES: Comments and related material must reach the Coast Guard on or before July 14, 2008.

ADDRESSES: You may submit comments identified by Coast Guard docket number USCG-2008-0027 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: Mr. John J. Mauro, Commander (dpw), First Coast Guard District, 408 Atlantic Ave., Boston, MA 02110, Telephone (617) 223-8355 or e-mail at John.J.Mauro@uscg.mil.

If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided. We have an agreement with the Department of Transportation (DOT) to use the Docket Management Facility. Please see DOT's “Privacy Act” paragraph below.

Request for Comments

We encourage you to participate in this rulemaking by submitting comments and related material. If you do so, please include your name and address, identify the docket number for this rulemaking (USCG-2008-0027), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Submitting Comments

If you submit a comment, please include the docket number for this rulemaking (USCG-2008-0027), indicate the specific section of this document to which each comment applies, and give the reason for each comment. We recommend that you include your name and a mailing address, an e-mail address, or a phone number in the body of your document so that we can contact you if we have questions regarding your submission. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing Comments and Documents

To view comments, as well as documents mentioned in this preamble as being available in the docket, go to http://www.regulations.gov at any time. Enter the docket number for this rulemaking (USCG-2008-0027) in the Search box, and click “Go >>.” You may also visit either the Docket Management Facility in Room W12-140 on the ground floor of the DOT West Building, 1200 New Jersey Avenue, SE., Washington, DC 20590, between 9 a.m. and 5 p.m., Monday through Friday, except Federal holidays; or, Commander (dpw), First Coast Guard District, 408 Atlantic Ave., Boston, MA 02110, between 8 a.m. and 3 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

Public Meeting

We do not now plan to hold a public meeting. But you may submit a request for one to the Waterways Management Branch at the address under ADDRESSES explaining why one would be beneficial. If we determine that one would aid this rulemaking, we will hold one at a time and place announced by a later notice in the Federal Register.

Background and Purpose

This proposed rule is intended to reduce confusion that would be caused by the proposed expansion of the adjacent safety and security zones surrounding Ellis and Liberty Islands (See Docket No. USCG-2007-0074). This proposed rule would decrease the western boundaries of Anchorage Grounds 20-A, 20-B, and 20-C. If these revised western anchorage ground boundaries were not proposed then the revised safety and security zones would overlap with the current Anchorage Ground boundaries. Without these proposed revisions mariners reading the Code of Federal Regulations may think that they were authorized to anchor within the revised Ellis and Liberty Island safety and security zones. The purpose of this proposed rule is to conform the Anchorage Ground boundaries to those of the proposed security zone.

Discussion of Proposed Rule

The proposed rule would revise the western boundaries of Anchorage Grounds 20-A, 20-B, and 20-C located east of Ellis and Liberty Islands on Upper New York Bay.

The revised boundary of Anchorage Grounds 20-A and 20-B would be revised to correspond to what is already depicted on the National Oceanic and Atmospheric Administration's navigation charts.

The revised western boundary of Anchorage Ground 20-C would be moved eastward 375-790 yards.

We are proposing to revise the western boundaries of these three Anchorage Grounds to reduce confusion that would be caused by the proposed expansion of the adjacent safety and security zones surrounding Ellis and Liberty Islands. Without these proposed revisions mariners navigating by the Code of Federal Regulations may think that they were authorized to anchor within the revised Ellis and Liberty Island safety and security zones.

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary.

This finding is based on the fact that this proposal conforms to the changing security needs of the Port of NY/NJ, the three anchorage grounds are rarely used by commercial vessels due to the already limited available area in the anchorage grounds, and the availability of additional anchorage grounds in Upper New York Bay and the Hudson River.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: The owners or operators of recreational or commercial vessels intending to anchor, in a portion of Upper New York Bay in and around the anchorage grounds. However, decreasing the size of the three anchorage grounds would not have a significant economic impact on these entities for the following reasons: Commercial vessels rarely use the three anchorage grounds due to the already limited size and the availability of other anchorage grounds in Upper New York Bay and the Hudson River. Recreational vessels may still anchor northwest of Ellis Island and southwest of Liberty Island.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact John J. Mauro, Waterways Management Branch, First Coast Guard District Boston at (617) 223-8355 or e-mail at John.J.Mauro@uscg.mil. The Coast Guard will not retaliate against small entities that question or complain about this rule or any policy or action of the Coast Guard.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD which guides the Coast Guard in complying with the National Environmental Policy Act of 1969 (NEPA) (42 U.S.C. 4321-4370f), and have made a preliminary determination that this action is not likely to have a significant effect on the human environment. We seek any comments or information that may lead to the discovery of a significant environmental impact from this proposed rule.

List of Subjects in 33 CFR Part 110

Anchorage grounds.

For the reasons discussed in the preamble, the Coast Guard proposes to amend 33 CFR part 110 as follows:

PART 110—ANCHORAGE REGULATIONS

1. The authority citation for part 110 continues to read as follows:

Authority: 33 U.S.C. 471; 1221 through 1236, 2030, 2035 and 2071; 33 CFR 1.05-1; and Department of Homeland Security Delegation No. 0170.1.

2. Amend § 110.155, by revising paragraphs (d)(1), (d)(2), and (d)(3) to read as follows:

§ 110.155 Port of New York.

* * * * *

(d) Upper Bay—(1) Anchorage No. 20-A. That area bound by the following coordinates: 40°41′53.8″ N, 074°02′11.6″ W; thence to 40°41′54.8″ N, 074°01′58.0″ W; thence to 40°42′05.0″ N, 074°01′57.0″ W; thence to 40°42′06.8″ N, 074°02′17.9″ W; thence to 40°42′06.2″ N, 074°02′18.8″ W; thence to 40°41′57.4″ N, 074°02′07.0″ W; thence to 40°41′54.4″ N, 074°02′11.2″ W.

(i) See 33 CFR 110.155(d)(6), (d)(16), and (l).

(2) Anchorage No. 20-B. That area bound by the following coordinates: 40°41′45.8″ N, 074°02′22.7″ W; thence to 40°41′42.3″ N, 074°02′00.5″ W; thence to 40°41′35.9″ N, 074°02′02.5″ W; thence to 40°41′30.2″ N, 074°02′06.5″ W; thence to 40°41′41.4″ N, 074°02′29.0″ W.

(i) See 33 CFR 110.155(d)(6), (d)(16), and (l).

(3) Anchorage No. 20-C. That area bound by the following coordinates: 40°41′25.6″ N, 074°02′09.4″ W; thence to 40°41′02.0″ N, 074°02′24.6″ W; thence to 40°41′09.2″ N, 074°02′39.7″ W; thence to 40°41′11.0″ N, 074°02′25.0″ W; thence to 40°41′27.0″ N, 074°02′20.8″ W; thence to 40°41′35.9″ N, 074°02′29.6″ W.

(i) See 33 CFR 110.155(d)(6), (d)(16), and (l).

* * * * *

Dated: January 18, 2008.
Timothy V. Skuby,
Captain, U.S. Coast Guard, Acting Commander, First Coast Guard District.

[FR Doc. E8-10706 Filed 5-13-08; 8:45 am]

BILLING CODE 4910-15-P